NUCLEAR REGULATORY COMMISSION

[Docket Nos. 50-317 and 50-318; NRC-2019-0215]

Exelon Generation Company, LLC; Calvert Cliffs Nuclear Power Plant, Unit Nos. 1 and 2

AGENCY: Nuclear Regulatory Commission.

ACTION: License amendment application; withdrawal by applicant.

SUMMARY: The U.S. Nuclear Regulatory Commission (NRC) has granted the request of Exelon Generation Company, LLC (Exelon) to withdraw its application dated August 13, 2018, as supplemented by letters dated October 10, 2018, March 25, 2019, June 7, 2019, and October 3, 2019, for proposed amendments to Renewed Facility Operating License Nos. DPR-53 and DPR-69 issued to Exelon for operation of the Calvert Cliffs Nuclear Power Plant, Unit Nos. 1 and 2 (Calvert Cliffs). The proposed amendment would have modified the Calvert Cliffs' licensing bases, including the affected portions of the Technical Specifications and Updated Final Safety Analysis Report to use a risk-informed approach to address issues described in NRC Generic Letter 2004-02, “Potential Impact of Debris Blockage on Emergency Recirculation During Design Basis Accidents at Pressurized-Water Reactors.”

DATES: The effective date of the withdrawal of the license amendment application is October 31, 2019.

ADDRESSES: Please refer to Docket ID NRC-2019-0215 when contacting the NRC about the availability of information regarding this document. You may obtain publicly available information related to this document using any of the following methods:

• Federal Rulemaking Website: Go to https://www.regulations.gov and search for Docket ID NRC-2019-0215. Address questions about dockets IDs in Regulations.gov to Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room 01-F21, One White Flint North, 11555 Rockville Pike, Rockville, Maryland 20852.

FOR FURTHER INFORMATION CONTACT: Michael L. Marshall, Jr., Office of Nuclear Reactor Regulation, U.S. Nuclear Regulation Commission, Washington, DC 20555-0001; telephone: 301-415-2871, email: Michael.Marshall@nrc.gov.

SUPPLEMENTARY INFORMATION: The NRC has granted the request of Exelon (the licensee) to withdraw its August 13, 2018 application (ADAMS Accession No. ML18226A189), as supplemented by letters dated October 10, 2018, March 25, 2019, June 7, 2019, and October 3, 2019 (ADAMS Accession Nos. ML18283A034, ML19084A078, ML19158A075, and ML19277D103, respectively) for proposed amendments to Renewed Facility Operating License Nos. DPR-53 and DPR-69 for the Calvert Cliffs Nuclear Power Plant, Unit Nos. 1 and 2, located in Calvert County, Maryland.

The proposed change would have modified the Calvert Cliffs' licensing bases, including the affected portions of the Technical Specifications and Updated Final Safety Analysis Report to use a risk-informed approach to address issues described in NRC Generic Letter 2004-02, “Potential Impact of Debris Blockage on Emergency Recirculation During Design Basis Accidents at Pressurized-Water Reactors” (ADAMS Accession No. ML042360586).

Exelon's August 13, 2018, request was noticed in the Federal Register on December 18, 2018 (83 FR 64895). Exelon requested to withdraw the request by letter dated October 21, 2019 (ADAMS Accession No. ML19294A056).

Dated at Rockville, Maryland, this 28th day of October 2019.
For the Nuclear Regulatory Commission.
Michael L. Marshall,
Senior Project Manager, Plant Licensing Branch I, Division of Operating Reactor Licensing, Office of Nuclear Reactor Regulation.

[FR Doc. 2019-23781 Filed 10-30-19; 8:45 am]

BILLING CODE 7590-01-P